NUCLEAR REGULATORY COMMISSION

Niagara Mohawk Power Corporation, et al.; Nine Mile Point Nuclear Station, Unit No. 2, Environmental Assessment and Finding of No Significant Impact

[Docket No. 50-410]

The U.S. Nuclear Regulatory Commission (NRC) is considering issuance of an amendment to Facility Operating License No. NPF-69, issued to Niagara Mohawk Power Corporation, et al. (the licensee), for operation of the Nine Mile Point Nuclear Station, Unit No. 2, located in Oswego County, New York.

Environmental Assessment

Identification of Proposed Action

The proposed action would amend Section 3.10.8, “SHUTDOWN MARGIN (SDM) Test—Refueling,” of the Nine Mile Point Nuclear Station, Unit No. 2, Technical Specifications (TS), correcting an administrative error introduced when Amendment No. 92 was processed.

The proposed action is in response to the licensee's application dated June 8, 2000.

The Need for the Proposed Action

On February 15, 2000, the staff issued Amendment No. 91, converting the TS to the Improved Technical Specifications format and style. Amendment No. 91 was to be fully implemented by August 31, 2000; in the interim, the licensee will continue to use the pre-Amendment No. 91 TS. On March 2, 2000, the staff issued Amendment No. 92, which imposes requirements on the Oscillating Power Range Monitor (OPRM) system on both the pre-Amendment No. 91 TS and post-Amendment No. 91 TS. Subsequently, the licensee found that certain pages contain inadvertent administrative errors (i.e., numbering of sections) in that certain pre- and post-Amendment No. 91 pages differ for no technical reason. By letter dated June 7, 2000, the licensee proposed to correct these errors which were inadvertently introduced during the review process of Amendment No. 92.

The proposed amendment involves administrative changes to the TS only. No actual plant equipment, regulatory requirements, operating practices, or analyses are affected by the proposed amendment.

Environmental Impacts of the Proposed Action

The NRC has completed its evaluation of the proposed action and concludes that there is no significant environmental impact if the amendment is granted. No changes will be made to the design, licensing bases, or the applicable procedures at the unit. Other than the administrative changes, no other changes will be made to the TS. The proposed action will not significantly increase the probability or consequences of accidents, no changes are being made in the types of any effluents that may be released offsite, and there is no significant increase in occupational or public radiation exposure. Therefore, there are no significant radiological environmental impacts associated with the proposed action.

With regard to potential non-radiological impacts, the proposed action does not involve any historic sites. It does not affect non-radiological plant effluents and has no other environmental impact. Therefore, there are no significant non-radiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does did not involve the use of any resources not previously considered in the Final Environmental Statement related to the Nine Mile Point Nuclear Station, Unit 2.

Agencies and Persons Contacted

In accordance with its stated policy, on July 7, 2000, the staff consulted with the New York State official, Mr. Jack Spath, regarding the environmental impact of the proposed amendment. The State official had no comments.

Finding of No Significant Impact

On the basis of the foregoing environmental assessment, the NRC concludes that the proposed amendment will not have a significant effect on the quality of the human environment. Accordingly, the NRC has determined not to prepare an environmental impact statement for the proposed amendment.

For further details with respect to the proposed action, see the licensee's request for the amendment dated June 7, 2000, which is available at the Commission's Public Document Room, The Gelman Building, 2120 L Street, NW., Washington DC, and accessible electronically through the ADAMS Public Electronic Reading Room link at the NRC Web site (http://www.nrc.gov).

Dated at Rockville, Maryland, this 17th day of August, 2000.
For the Nuclear Regulatory Commission.
Peter S. Tam,
Senior Project Manager, Section 1, Project Directorate I, Division of Licensing Project Management, Office of Nuclear Reactor Regulation.

[FR Doc. 00-21667 Filed 8-23-00; 8:45 am]

BILLING CODE 7590-01-P